DEPARTMENT OF LABOR

Employment and Training Administration

[TA-W-91,121; TA-W-91,121A; TA-W-91,121B; TA-W-91,121C]

REC Silicon LLC, a Wholly Owned Subsidiary of Renewable Energy Corporation ASA, Including Workers Whose Wages Were Reported Under REC Solar Grade Silicon LLC, Including On-Site Leased Workers From Express Employment Professionals, Moses Lake, Washington; REC Silicon ASA, a Wholly Owned Subsidiary of REC Solar Grade Silicon LLC, Including Workers Whose Wages Were Reported Under REC Advanced Silicon Materials, Silver Bow, Montana; Nemo IT Solutions, Working On-Site at REC Silicon LLC, a Wholly Owned Subsidiary of Renewable Energy Corporation ASA, Moses Lake, Washington; Spherion Staffing LLC, Working On-Site at REC Silicon ASA, a Wholly Owned Subsidiary of REC Solar Grade Silicon LLC, Silver Bow, Montana; Notice of Revised Determination on Reconsideration

On May 16, 2016, the Department of Labor issued an Affirmative Determination Regarding Application for Reconsideration for the workers and former workers of REC Silicon LLC, a wholly owned subsidiary of Renewable Energy Corporation ASA, Moses Lake, Washington (TA-W-91,121), and REC Silicon ASA, a wholly owned subsidiary of REC Solar Grade Silicon LLC, Silver Bow, Montana (TA-W-91,121A) (herein referred to as “REC Silicon”). The firm is engaged in activities related to the production of Silane Gas and Polysilicon. The worker group was previously certified eligible to apply for Trade Adjustment Assistance under petition number TA-W-82,458 and TA-W-82,458A which expired on March 22, 2015. The subject worker group includes on-site leased workers from Express Employment Professionals (TA-W-91,121), Nemo IT Solutions (TA-W-91,121B), and Spherion Staffing, LLC (TA-W-91,121C). Nemo IT Solutions and Spherion Staffing, LLC were not included in the certification for TA-W-82,458. The subject worker group also includes workers whose wages were reported under REC Solar Grade Silicon (TA-W-91,121) and REC Advanced Silicon Materials (TA-W-91,121A).

To support the request for reconsideration, the petitioner supplied additional information regarding the firms' previous certification to supplement that which was gathered during the initial investigation.

Based on the new information supplied by the firm and provided by the petitioner during the reconsideration investigation, the Department of Labor determines that a shift in production of silane gas and polysilicon has contributed importantly to the worker separations at the subject firm.

Conclusion

After careful review of the additional facts obtained on reconsideration, I determine that workers of REC Silicon LLC, a wholly owned subsidiary of Renewable Energy Corporation ASA, including workers whose wages were reported under REC Solar Grade Silicon LLC, including on-site leased workers from Express Employment Professionals, Moses Lake, Washington (TA-W-91,121), REC Silicon ASA, a wholly owned subsidiary of REC Solar Grade Silicon LLC, including workers whose wages were reported under REC Advanced Silicon Materials, Silver Bow, Montana (TA-W-91,121A), NEMO IT Solutions, working on-site at REC Silicon LLC, a wholly owned subsidiary of Renewable Energy Corporation ASA, Moses Lake, Washington (TA-W-91,121B), and Spherion Staffing LLC, working on-site at REC Silicon ASA, a wholly owned subsidiary of REC Solar Grade Silicon LLC, Silver Bow, Montana (TA-W-91,121C) who were engaged in employment related to production of saline gas and polysilicon, meet the worker group certification criteria under Section 222(a) of the Act, 19 U.S.C. 2272(a). In accordance with Section 223 of the Act, 19 U.S.C. 2273, I make the following certification:

All workers of REC Silicon LLC, a wholly owned subsidiary of Renewable Energy Corporation ASA, including workers whose wages were reported under REC Solar Grade Silicon LLC, including on-site leased workers from Express Employment Professionals, Moses Lake, Washington (TA-W-91,121), REC Silicon ASA, a wholly owned subsidiary of REC Solar Grade Silicon LLC, including workers whose wages were reported under REC Advanced Silicon Materials, Silver Bow, Montana (TA-W-91,121A), who became totally or partially separated from employment on or after March 23, 2015, through two years from the date of this certification, and all workers in the group threatened with total or partial separation from employment on date of certification through two years from the date of certification, are eligible to apply for adjustment assistance under Chapter 2 of Title II of the Trade Act of 1974, as amended;

AND,

All workers of NEMO IT Solutions, working on-site at REC Silicon LLC, a wholly owned subsidiary of Renewable Energy Corporation ASA, Moses Lake, Washington (TA-W-91,121B) and Spherion Staffing LLC, working on-site at REC Silicon ASA, a wholly owned subsidiary of REC Solar Grade Silicon LLC, Silver Bow, Montana (TA-W-91,121C) who became totally or partially separated from employment on or after November 4, 2014, through two years from the date of this certification, and all workers in the group threatened with total or partial separation from employment on date of certification through two years from the date of certification, are eligible to apply for adjustment assistance under Chapter 2 of Title II of the Trade Act of 1974, as amended.

Signed in Washington, DC, this 18th day of October 2016.
Hope D. Kinglock,
Certifying Officer, Office of Trade Adjustment Assistance.

[FR Doc. 2017-01212 Filed 1-18-17; 8:45 am]

BILLING CODE 4510-FN-P